DEPARTMENT OF HOUSING AND URBAN DEVELOPMENT

[Docket No. FR-5838-N-01]

60-Day Notice of Proposed Information Collection: Family Unification Program

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: April 7, 2015.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Arlette Mussington, Office of Policy, Programs and Legislative Initiatives, PIH, Department of Housing and Urban Development, 451 7th Street SW., (L'Enfant Plaza, Room 2206), Washington, DC 20410; telephone 202-402-4109, (this is not a toll-free number). Persons with hearing or speech impairments may access this number via TTY by calling the Federal Information Relay Service at (800) 877-8339. Copies of available documents submitted to OMB may be obtained from Ms. Mussington.

SUPPLEMENTARY INFORMATION: This notice informs the public that HUD is seeking approval from OMB for the information collection described in Section A.

A. Overview of Information Collection

Title of Information Collection: Family Unification Program (FUP).

OMB Approval Number: 2577-0259.

Type of Request: Extension of currently approved collection.

Form Number: HUD-52515; HUD-50058; HUD-2993; HUD-96011; HUD-2990; HUD-2991; and HUD-2880; SF-424; SF-LLL.

Description of the need for the information and proposed use: The Family Unification Program (FUP) is a program, authorized under section 8(x) of the United States Housing Act of 1937 (42 U.S.C. 1437(X), that provides housing choice vouchers to PHAs to assist families for whom the lack of adequate housing is a primary factor in the imminent placement of the family's child or children in out-of-home care; or the delay in the discharge of the child, or children, to the family from out-of-home care. Youths at least 18 years old and not more than 21 years old (have not reached 22nd birthday) who left foster care at age 16 or older and who do not have adequate housing are also eligible to receive housing assistance under the FUP. As required by statute, a FUP voucher issued to such a youth may only be used to provide housing assistance for the youth for a maximum of 18 months. Vouchers awarded under FUP are administered by PHAs under HUD's regulations for the Housing Choice Voucher program (24 CFR part 982).

Respondents: Public Housing Agencies.

Description of information collection | Number of respondents | Frequency of response | Responses per annum | Burden hour per response | Annual burden hours | Hourly cost per response | Annual cost
SF424 (0348-0043) Application for Federal Assistance | 265 | Annual | 1 | 0.75 | 198.75 | $35.03 | $6,962.21
SF LLL (0348-0046) Lobbying Form | 10 | Annual | 1 | 0.17 | 1.7 | 35.03 | 59.55
HUD-96011 (2535-0118) 3rd Party Documentation Facsimile Transmittal | 265 | Annual | 1 | 0.1 | 26.5 | 35.03 | 928.30
HUD-2993 Acknowledgement of Application Receipt (2577-0259) | 13 | Annual | 1 | 0 | 0 | 35.03 | 0.00
Logic Model-HUD-96010 (2535-0114) | 265 | Annual | 1 | 0 | 0 | 35.03 | 0.00
PCWA Statement of Need (maximum of 5 pages) | 265 | Annual | 1 | 2.25 | 596.25 | 35.03 | 20,886.64
Memorandum of Understanding between PHA and PCWA | 265 | Annual | 1 | 6 | 1590 | 35.03 | 55,697.70
Rating Criteria 1: Area-Wide Housing Opportunities. Narratives (up to 20 pages). Logic Model (HUD-96010) | 265 | Annual | 1 | 3 | 795 | 35.03 | 27,848.85
Rating Criteria 2: PCWA Commitments. Narratives (up to 10 pages). Other Documentation | 265 | Annual | 1 | 1.25 | 331.25 | 35.03 | 11,603.69
Rating Criteria 3: Self-Sufficiency Programs. Narrative: (up to 6 pages) Documentation: Excerpt from Administrative Plan or policies manual for FSS program operations Certification: FUP recipients enrolled in FSS | 265 | Annual | 1 | 0.5 | 132.5 | 35.03 | 4,641.48
Rating Criteria 4: Local Coordination Letter of Support | 265 | Annual | 1 | 1 | 265 | 35.03 | 9,282.95
PCWA Contractor Documentation | 265 | Annual | 1 | 1 | 265 | 35.03 | 9,282.95
HUD2990, Certification of Consistency with the RC/EZ/EC-IIs Strategic Plan | 265 | Annual | 1 | 0 | 0 | 35.03 | 0.00
Funding Application HUD-52515 (2577-0169). Includes leasing schedule | 265 | Annual | 1 | 1 | 265 | 35.03 | 9,282.95
Affirmatively Furthering Fair Housing Statement (addendum) | 265 | Annual | 1 | 1 | 265 | 35.03 | 9,282.95
HUD2880, Applicant/Recipient Disclosure/Update Report (2510-0011) | 265 | Annual | 1 | 0 | 0 | 35.03 | 0.00
HUD2991, Certification of Consistency with the Consolidated Plan | 265 | Annual | 1 | 0 | 0 | 35.03 | 0.00
Subtotal (Application) | 265 | Annual | 1 | 18.02 | 4731.95 | 35.03 | 165,760.21
Family Report HUD-50058 (2577-0083) | 242 | Annual | 75 | .02 | 363 | 35.03 | 12,715.89
Baseline adjustment | 10 | Annual | 1 | .5 | 5 | 35.03 | 175.15
Program and Accounting Recordkeeping | 242 | Annual | 1 | 5 | 1210 | 35.03 | 42,386.30
Subtotal (Reporting/Recordkeeping) |  |  |  | 10.5 | 1,456.5 | 35.03 | 55,277.34
Total | 265 | Annual | 1 | 28.52 | 6,188.45 | 35.03 | 221,037.55

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority: Section 3507 of the Paperwork Reduction Act of 1995, 44 U.S.C. Chapter 35.

Dated: January 29, 2015.
Merrie Nichols-Dixon,
Deputy Director, Office of Policy, Programs and Legislative Initiatives.

[FR Doc. 2015-02455 Filed 2-5-15; 8:45 am]

BILLING CODE 4210-67-P